DEPARTMENT OF COMMERCE

National Oceanic and Atmospheric Administration

RIN 0648-XD391

Caribbean Fishery Management Council; Public Meetings

AGENCY: National Marine Fisheries Service (NMFS), National Oceanic and Atmospheric Administration (NOAA), Commerce.

ACTION: Notice of public meetings.

SUMMARY: The Caribbean Fishery Management Council's Scientific and Statistical Committee (SSC) will hold meetings.

DATES: The SSC meetings will be held on August 5-7, 2014.

ADDRESSES: The meetings will be held at the Caribbean Fishery Management Council Headquarters, 270 Muñoz Rivera Avenue, 4th Floor, Suite 401, San Juan, Puerto Rico 00918.

FOR FURTHER INFORMATION CONTACT: Caribbean Fishery Management Council, 270 Muñoz Rivera Avenue, Suite 401, San Juan, Puerto Rico 00918; telephone: (787) 766-5926.

SUPPLEMENTARY INFORMATION: The SSC will meet to discuss the items contained in the following agenda:

August 5, 2014

1. Abrir La Sierra, Bajo de Sico and Tourmaline Compatibility

a. Results from Public Hearings.

b. Recommendations to CFMC

2. Evaluating criteria for inclusion of species into Island based FMPs.

a. Continue developing criteria

August 6, 2014

3. Evaluating criteria for inclusion/exclusions of species into Island based FMPs (continued).

a. Finalize Criteria

4. SEFSC Update

5. ACL Control Rule.

a. Results from scoping meetings.

b. Recommendations to the CFMC

August 7, 2014

Other Business

6. Ecosystem Issues—Walter Ingram

7. Five-year research plan

8. Guidelines for peer-review of external stock assessments

Other Business

Adjourn

The SSC will convene on August 5, 2014, from 9 a.m. until 5 p.m., on August 6, 2014, from 9 a.m. to 5 p.m., and on August 7, from 9 a.m. to 12 noon. The meetings are open to the public, and will be conducted in English.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the intent to take final action to address the emergency.

Special Accommodations

These meetings are physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: July 15, 2014.
Tracey L. Thompson,
Acting Deputy Director, Office of Sustainable Fisheries, National Marine Fisheries Service.

[FR Doc. 2014-16907 Filed 7-17-14; 8:45 am]

BILLING CODE 3510-22-P